DEPARTMENT OF TRANSPORTATION

Maritime Administration

[Docket No. MARAD-2002-11283]

Information Collection Available for Public Comments and Recommendations

ACTION: Notice and request for comments.

SUMMARY: In accordance with the Paperwork Reduction Act of 1995, this notice announces the Maritime Administration's (MARAD's) intentions to request extension of approval for three years of a currently approved information collection.

DATES: Comments should be submitted on or before March 11, 2002.

FOR FURTHER INFORMATION CONTACT: Rita Jackson, Maritime Administration, MAR-250, 400 Seventh St., SW., Washington, DC 20590. Telephone: 202-366-0284 or FAX 202-493-2288.

Copies of this collection can also be obtained from that office.

SUPPLEMENTARY INFORMATION: Title of Collection: Request for Waiver of Service Obligation; Request for Deferment of Service Obligation; Application for Review of Waiver/Deferment Decisions.

Type of Request: Extension of currently approved information collection.

OMB Control Number: 2133-0510.

Form Numbers: MA-935; MA-936; MA-937.

Expiration Date of Approval: June 30, 2002.

Summary of Collection of Information: In accordance with U.S.C. 12959, MARAD requires approved maritime training institutions seeking excess or surplus property to provide a statement of need/justification prior to acquiring the property.

Need and Use of the Information: This information collection is used by the requestor to provide a justification of the intended use of the surplus property, and is needed by MARAD to determine compliance with applicable statutory requirements.

Description of Respondents: Maritime training institutions.

Annual Responses: 61.

Annual Burden: 20½ hours.

Comments: Comments should refer to the docket number that appears at the top of this document. Written comments may be submitted to the Docket Clerk, U.S. DOT Dockets, Room PL-401, 400 Seventh Street, SW., Washington, DC 20590. Comments may also be submitted by electronic means via the Internet at http://dmses.dot.gov/submit. Specifically address whether this information collection is necessary for proper performance of the functions of the agency and will have practical utility, accuracy of the burden estimates, ways to minimize this burden, and ways to enhance the quality, utility, and clarity of the information to be collected. All comments received will be available for examination at the above address between 10 a.m. and 5 p.m. EDT, Monday through Friday, except Federal Holidays. An electronic version of this document is available on the World Wide Web at http://dms.dot.gov.

By Order of the Maritime Administrator.
Dated: January 7, 2002.
Joel C. Richard,
Secretary.

[FR Doc. 02-648 Filed 1-9-02; 8:45 am]

BILLING CODE 4910-81-P